DEPARTMENT OF COMMERCE

Foreign-Trade Zones Board

[Docket 22-2007]

Foreign-Trade Zone 86 - Tacoma, Washington, Expansion of Manufacturing Authority - Subzone 86D; Tesoro Refining and Marketing Company, Anacortes, Washington

An application has been submitted to the Foreign-Trade Zones (FTZ) Board (the Board) by the Port of Tacoma, grantee of FTZ 86, requesting authority on behalf of Tesoro Refining and Marketing Company (Tesoro), to expand the scope of manufacturing activity conducted under zone procedures within Subzone 86D at the Tesoro oil refinery complex in Anacortes, Washington. The application was submitted pursuant to the Foreign-Trade Zones Act, as amended (19 U.S.C. 81a-81u), and the regulations of the Board (15 CFR part 400). It was formally filed on July 10, 2007.

Subzone 86D (108,200 BPD capacity, 350 employees) was approved by the Board in 2001 for the manufacture of fuel products and certain petrochemical feedstocks and refinery by-products (Board Order 1140, 66 FR 6583-6585, 1-22-2001).

The subzone is located on West March Point Road in Anacortes, Washington (Skagit County). The request anticipates expansion of Tesoro's crude unit and modifications and upgrades to existing units within the refinery complex that may increase the overall crude distillation capacity of the refinery up to 150,000 BPD. No additional feedstocks or products have been requested.

Zone procedures would exempt the increased production from customs duty payments on the foreign products used in its exports. On domestic sales of the increased production, the company would be able to choose the finished product duty rate on certain petrochemical feedstocks and refinery by-products (duty-free) by admitting foreign crude oil in non-privileged foreign status. The duty rates on crude oil range from 5.25 cents/barrel to 10.5 cents/barrel. The application indicates that the savings from zone procedures help improve the refinery's international competitiveness.

In accordance with the Board's regulations, a member of the FTZ staff has been designated examiner to investigate the application and report to the Board.

Public comment is invited from interested parties. Submissions (original and 3 copies) shall be addressed to the Board's Executive Secretary at the address below. The closing period for their receipt is September 17, 2007. Rebuttal comments in response to material submitted during the foregoing period may be submitted during the subsequent 15-day period (to October 1, 2007).

A copy of the application and accompanying exhibits will be available for public inspection at each of the following locations:

U.S. Department of Commerce Export Assistance Center, 2601 Fourth Avenue, Suite 310, Seattle, WA 98121.

Office of the Executive Secretary, Foreign-Trade Zones Board, U.S. Department of Commerce, Room 2111, 1401 Constitution Ave., NW, Washington, DC 20230.

For further information, contact Diane Finver at Diane_Finver@ita.doc.gov or (202) 482-1367.

Dated: July 10, 2007.
Andrew McGilvray,
Executive Secretary.

[FR Doc. E7-13824 Filed 7-16-07; 8:45 am]

BILLING CODE 3510-DS-S